DEPARTMENT OF HEALTH AND HUMAN SERVICES

Food and Drug Administration

The Fourth Annual Educational Workshop—Current Topics in Regulatory Affairs; Correction

AGENCY: Food and Drug Administration, HHS.

ACTION: Notice; correction.

SUMMARY: The Food and Drug Administration (FDA) is correcting a notice that appeared in the Federal Register of March 28, 2001 (65 FR 16949). The notice announced the Fourth Annual Educational Workshop intended to give the drugs, devices, and biologics industries an opportunity to interact with FDA’s reviewers and compliance officers from FDA’s centers and district offices. The notice was published with an inadvertent error. This document corrects that error.

FOR FURTHER INFORMATION CONTACT: Ramlah Oma, Food and Drug Administration, 19900 MacArthur Blvd., suite 300, Irvine, CA 92612, 949-798-7611.

SUPPLEMENTARY INFORMATION: In FR Doc. 01-7565, appearing on page 16949 in the Federal Register of Wednesday, March 28, 2001, the following correction is made:

1. On page 16949, in the second column, the “Transcripts” portion of the notice is removed.

Dated: April 11, 2001.
William K. Hubbard,
Senior Associate Commissioner for Policy, Planning, and Legislation.

[FR Doc. 01-9457 Filed 4-16-01; 8:45 am]

BILLING CODE 4160-01-S